DEPARTMENT OF HEALTH AND HUMAN SERVICES

Administration for Children and Families

[OMB No. 0970—0060]

Submission for OMB Review; Annual Report on Households Assisted by the Low Income Home Energy Assistance Program (LIHEAP)

AGENCY: Office of Community Services, Administration for Children and Families, HHS.

ACTION: Request for public comment.

SUMMARY: The Office of Community Services (OCS), Division of Energy Assistance, is requesting a 3-year extension of the Household Report Form (OMB #0970-0060, expiration 02/28/2022). Submission of the completed report is one requirement for LIHEAP grant recipients applying for federal LIHEAP block grant funds. OCS proposes minor changes related to reporting of supplemental funding and to update reporting dates and number of respondents.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. One can find this particular information collection by selecting “Currently under 30-day Review—Open for Public Comments” or by using the search function. You can also obtain copies of the proposed collection of information by emailing infocollection@acf.hhs.gov. Identify all emailed requests by the title of the information collection.

SUPPLEMENTARY INFORMATION:

Description: States, the District of Columbia, and the Commonwealth of Puerto Rico are required by the Low-Income Energy Assistance Act of 1981 (42 U.S.C. 8624, Sec 2610) to report statistics for the previous federal fiscal year (FFY) on the following:

• Assisted and applicant households, by type of LIHEAP assistance and funding source;

• Assisted households receiving nominal payments of $50 or less, by funding source;

• Assisted households receiving only utility payment assistance, by funding source; this information will automatically be transferred to the grant recipient's Performance Data Form;

• Assisted households, regardless of the type(s) of LIHEAP assistance or funding source, excluding households that only receive nominal payments of $50 or less;

• Assisted households, by type of LIHEAP assistance and funding source, having at least one vulnerable member who is at least 60 years or older, disabled, or 5 years old or younger;

• Assisted households, by type of LIHEAP assistance and funding source, with at least one member age 2 years or under;

• Assisted households, by type of LIHEAP assistance and funding source, with at least one member ages 3 years through 5 years; and

• Assisted households, regardless of the type(s) of LIHEAP assistance or funding source, having at least one member 60 years or older, disabled, or 5 years old or younger.

Indian tribal grant recipients are required to submit data only on the number of households, by funding source, receiving heating, cooling, energy crisis, and/or weatherization benefits.

In FFY 2020, OCS updated the form to allow for the reporting of households served by separate LIHEAP funding types and benefits provided by the following: (1) Funds from regular LIHEAP FFY appropriations acts, including any Continuing Resolutions and final appropriations acts, reallotted prior year funds, and federal LIHEAP funds carried-over to or expended in the current year; (2) supplemental funds from the Coronavirus Aid, Relief, and Economic Security Act (the CARES Act) (Pub. L. 116-136); and (3) funds from any subsequent supplemental LIHEAP appropriations acts. ACF proposes similar changes to the report for FFY 2022, including the addition of lines that allow for the reporting of households served by LIHEAP funds from the American Rescue Plan Act of 2021 (Pub. L. 117-2). OCS has also updated the request to reflect the current number of expected respondents and appropriate reporting dates.

The information is being collected for the Department's annual LIHEAP Report to Congress. The data also provides information about the need for LIHEAP funds. Finally, the data are used in the calculation of LIHEAP performance measures under the Government Performance and Results Act of 1993. The data elements will allow the accuracy of measuring LIHEAP targeting performance and LIHEAP cost efficiency.

Respondents: State governments, tribal governments, U.S. territories, and the District of Columbia.

Annual Burden Estimates
Instrument | Total number of respondents | Total number of responses per respondent | Average burden hours per response | Annual burden hours
Assisted Household Report—Long Form | 56 | 1 | 43 | 2,408
Assisted Household Report—Short Form | 151 | 1 | 2 | 302

Estimated Total Annual Burden Hours: 2,710.

Authority: U.S.C. 8629 and 45 CFR.

Mary B. Jones,
ACF/OPRE Certifying Officer.

[FR Doc. 2022-04085 Filed 2-25-22; 8:45 am]

BILLING CODE 4184-80-P